DEPARTMENT OF COMMERCE

International Trade Administration

[A-583-844]

Narrow Woven Ribbons With Woven Selvedge From Taiwan: Rescission of Antidumping Duty Administrative Review; 2019-2020

AGENCY: Enforcement and Compliance, International Trade Administration, United States Department of Commerce.

SUMMARY: The Department of Commerce (Commerce) is rescinding the administrative review of the antidumping duty (AD) order on narrow woven ribbons with woven selvedge (NWR) from Taiwan for the period of review (POR) September 1, 2019, through August 31, 2020, based on the timely withdrawal of the request for review.

DATES: Applicable June 8, 2021.

FOR FURTHER INFORMATION CONTACT: David Crespo, AD/CVD Operations, Office II, Enforcement and Compliance, International Trade Administration, U.S. Department of Commerce, 1401 Constitution Avenue NW, Washington, DC 20230; telephone: (202) 482-3693.

Background

On September 1, 2020, Commerce published in the Federal Register a notice of opportunity to request an administrative review of the AD order on NWR from Taiwan.¹ On September 30, 2020, Commerce received a timely request, in accordance with section 751(a) of the Tariff Act of 1930, as amended (the Act), from Berwick Offray LLC (the petitioner) to conduct an administrative review of the AD order on NWR from Taiwan with respect to Maple Ribbon Co., Ltd. (Maple Ribbon).²

¹ See Antidumping or Countervailing Duty Order, Finding, or Suspended Investigation; Opportunity to Request Administrative Review, 85 FR 54349 (September 1, 2020).

² See Petitioner's Letter, “Narrow Woven Ribbons with Woven Selvedge from Taiwan/Petitioner's Request for Administrative Review,” dated September 30, 2020.

On October 30, 2020, Commerce published in the Federal Register a notice of initiation of an administrative review of the AD order on NWR from Taiwan with respect to this company.³ On November 9, 2020, Commerce issued the U.S. Customs and Border Protection (CBP) entry data for U.S. imports of subject merchandise during the POR.⁴ On January 27, 2021, the petitioner timely withdrew its request for an administrative review with respect to Maple Ribbon.⁵

³ See Initiation of Antidumping and Countervailing Duty Administrative Reviews, 85 FR 68840 (October 30, 2020).

⁴ See Memorandum, “Release of U.S. Customs and Border Protection Entry Data,” dated November 9, 2020.

⁵ See Petitioner's Letter, “Narrow Woven Ribbons with Woven Selvedge from Taiwan/Petitioner's Withdrawal Of Request For Administrative Review Of Maple Ribbon Co., Ltd.,” dated January 27, 2021.

Rescission of Review

Pursuant to 19 CFR 351.213(d)(1), Commerce will rescind an administrative review, in whole or in part, if the party that requested the review withdraws the request within 90 days of the date of publication of the notice of initiation of the requested review. As noted above, the petitioner timely withdrew its request for review within the 90-day period. Because no other party requested a review of the AD order, we are rescinding this administrative review of the AD order on NWR from Taiwan for the POR in its entirety, in accordance with 19 CFR 351.213(d)(1).

Assessment

Commerce will instruct CBP to assess antidumping duties on all appropriate entries of NWR from Taiwan during the POR at rates equal to the cash deposit rates for estimated antidumping duties that were required at the time of entry, or withdrawal from warehouse, for consumption, in accordance with 19 CFR 351.212(c)(1)(i). Commerce intends to issue appropriate assessment instructions to CBP no earlier than 35 days after the date of publication of this rescission notice in the Federal Register.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: June 1, 2021.
Scot Fullerton,
Associate Deputy Assistant Secretary for Antidumping and Countervailing Duty Operations.

[FR Doc. 2021-11920 Filed 6-7-21; 8:45 am]

BILLING CODE 3510-DS-P